DEPARTMENT OF LABOR

Office of the Secretary

Submission for OMB Review; Comment Request

March 29, 2002.

The Department of Labor (DOL) has submitted the following public information collection requests (ICRs) to the Office of Management and Budget (OMB) for review and approval in accordance with the Paperwork Reduction Act of 1995 (Pub. L. 104-13, 44 U.S.C. Chapter 35). A copy of each individual ICR, with applicable supporting documentation, may be obtained by calling the Department of Labor. To obtain documentation contact Marlene Howze at ((202) 219-8904 or email Howze-Marlene@dol.gov).

Comments should be sent to Office of Information and Regulatory Affairs, Attn: OMB Desk Officer for PWBA, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and minimize the burden of the collection of information on those who are to respond, including through the use of appropriate automated, electronic, mechanical, or other technological collection techniques or other forms of information technology, e.g., permitting electronic submission of responses.

Type of Review: Extension of a currently approved collection.

Agency: Pension and Welfare Benefits Administration (PWBA).

Title: Application for EFAST-1 Electronic Signature and Codes for EFAST Transmitters and Software Developers.

OMB Number: 1210-0117.

Affected Public: Business or other for-profit, Individuals or households, and Not-for-profit institutions.

Frequency: On Occasion.

Number of Respondents: 7,200.

Number of Annual Responses: 7,200.

Estimated Time Per Response: 20 minutes.

Total Burden Hours: 2,400.

Total Annualized Capital/Startup Costs: $0.

Total Annual Costs (operating/maintaining systems or purchasing services:) $2,736.00

Description: Section 104 of the Employment Retirement Income Security Act of 1974, as amended, requires that administrators of pension and welfare plans (collectively, employee benefit plans), and employers sponsoring certain fringe benefit plans and other plans of deferred compensation, file returns/reports annually with the Secretary of Labor concerning the financial condition and operation of the plans. The EFAST-1 is used by filers of Forms 5500 and 5500-EZ and software developers who wish to participate in an electronic filing program. EFAST-1 will transmit filer signatures and declarations to the EFAST system so that program participants may receive secure codes for electronic submission. The electronic signatures and other codes also provide future verification of a filer's standing as a qualified participant in the electronic filing program and a means of contact for information exchange and publication distribution between the filer, transmitter, or software developer and the Department.

Ira L. Mills,
Departmental Clearance Officer.

[FR Doc. 02-8263 Filed 4-4-02; 8:45 am]

BILLING CODE 4510-29-M